DEPARTMENT OF AGRICULTURE

National Agricultural Statistics Service

Notice of the Advisory Committee on Agriculture Statistics Meeting

AGENCY: National Agricultural Statistics Service, USDA.

ACTION: Notice of public meeting.

SUMMARY: In accordance with the Federal Advisory Committee Act, the National Agricultural Statistics Service (NASS) announces a meeting of the Advisory Committee on Agriculture Statistics.

DATES: The Committee meeting will be held from 8:00 a.m. to 5:30 p.m. on Wednesday, November 14, 2018, and from 8:00 a.m. to 12:30 p.m. on Thursday, November 15, 2018. There will be an opportunity for public questions and comments at 8:15 a.m. on Thursday, November 15, 2018. All times mentioned herein refer to Central Standard Time.

ADDRESSES: The Committee meeting will take place at the Wyndham San Antonio Riverwalk, 111 E Pecan St., San Antonio, TX 78205. Written comments may be filed before or up to two weeks after the meeting with the contact person identified herein at: U.S. Department of Agriculture, National Agricultural Statistics Service, 1400 Independence Avenue SW, Room 5041-A, South Building, Washington, DC, 20250-2000.

FOR FURTHER INFORMATION CONTACT: Kevin Barnes, Associate Administrator, National Agricultural Statistics Service, telephone: 202-720-4333, eFax: 855-493-0445, or email: HQOA@nass.usda.gov. General information about the committee can also be found at https://www.nass.usda.gov/About_NASS/index.php.

SUPPLEMENTARY INFORMATION: The Advisory Committee on Agriculture Statistics, which consists of 20 members appointed from 7 categories covering a broad range of agricultural disciplines and interests, has scheduled a meeting on November 14-15, 2018. During this time the Advisory Committee will discuss topics including the status of NASS programs, Census of Agriculture Updates, Census of Agriculture Program Plans, and the NASS Strategic Plan.

The Committee meeting is open to the public. The public is asked to pre-register for the meeting at least 10 business days prior to the meeting. Your pre-registration must state the names of each person in your group, organization, or interest represented; the number of people planning to give oral comments, if any; and whether anyone in your group requires special accommodations. Submit registrations to Executive Secretary, Advisory Committee on Agriculture Statistics, via eFax: 855-493-0445, or email: HQOA@nass.usda.gov. Members of the public who request to give oral comments to the Committee must arrive at the meeting site by 8:00 a.m. on Thursday, November 15, 2018. Written comments by attendees or other interested stakeholders will be welcomed for the public record before and up to two weeks following the meeting. The public may file written comments by mail to the Executive Director, Advisory Committee on Agriculture Statistics, U.S. Department of Agriculture, National Agricultural Statistics Service, 1400 Independence Avenue SW, Room 5041-A South Building, Washington, DC, 20250-2000. Written comments can also be sent via eFax: 855-493-0445, or email: HQOA@nass.usda.gov. All statements will become a part of the official records of the USDA Advisory Committee on Agriculture Statistics and will be kept on file for public review in the office of the Executive Director, Advisory Committee on Agriculture Statistics, U.S. Department of Agriculture, Washington, DC, 20250.

Signed at Washington, DC, September 19, 2018.
Kevin Barnes,
Associate Administrator, National Agricultural Statistics Service.

[FR Doc. 2018-21611 Filed 10-3-18; 8:45 am]

BILLING CODE 3410-20-P